DEPARTMENT OF TRANSPORTATION

Federal Aviation Administration

RTCA Special Committee 193/EUROCAE Working Group 44: Terrain and Airport Databases

AGENCY: Federal Aviation Administration (FAA), DOT.

ACTION: Notice of RTCA Special Committee 193/EUROCAE Working Group 44 meeting.

SUMMARY: The FAA is issuing this notice to advise the public of a meeting of RTCA Special Committee 193/EUROCAE Working Group 44: Terrain and Airport Databases.

DATES: The meeting will be held December 6-10, 2004 from 9 a.m.-5 p.m.

ADDRESSES: The meeting will be held at Jeppesen, 225 West Santa Clara Street, 16th Floor, San Jose, CA 95119-1743.

FOR FURTHER INFORMATION CONTACT: RTCA Secretariat, 1828 L Street, NW., Suite 805, Washington, DC 20036; telephone (202) 833-9339; fax (202) 833-9434; Web site http://www.rtca.org. (2) Beth Miller; telephone (408) 961-2825.

SUPPLEMENTARY INFORMATION: Pursuant to section 10(a)(2) of the Federal Advisory Committee Act (Pub. L. 92-463, 5 U.S.C., Appendix 2), notice is hereby given for a Special Committee 193/EUROCAE Working Group 44 meeting. The agenda will include:

• December 6:

• Opening plenary session (welcome and introductory remarks, review/approval of meeting agenda, review summary of previous meeting).

• Discussion.

• Presentations.

• Andre Bourdais—proposed ARNIC airport database encoding format.

• Sam Van der Stricht—AMXS (Airport Mapping Exchange Schema).

• David Toland (FAA)—Systems and Design Segment Specifications Documents.

• Subgroup 5 (Update to SC-193/WG-44 Documents).

• Prepare RTCA and EUROCAE Documents for Versions “A”.

• DO-272A/ED-99A.

• Numerical Requirements.

• Connectivity.

• New Appendix with reference to changes to DO-272/ED-99.

• Add words for guidance.

• DO-276A/ED-98A.

• Section 3.3.23 Geometry.

• New Appendix with reference to changes to 276.

• FRAC Process, including the establishment of key dates for DO-272A/ED99A and DO-276A/ED-98A.

• December 7:

• Continue Subgroup 5:

• Update to SC-193/WG-44.

• December 8:

• Continue in Subgroup 5:

• Update to SC-193/WG-44.

• December 9:

• Joint meeting with ARINC SAI Committee for discussions on proposed ARINC standard for airborne mapping database formats. Chair of ARINC SAI committee is Paul Prizansnuk.

• Update to SC-193/WG-44 Documents.

• December 10:

• Closing plenary session (summary of subgroup 5, assign tasks, other business, date and place of next meeting, adjourn).

Attendance is open to the interested public but limited to space availability. With the approval of the chairmen, members of the public may present oral statements at the meeting. Persons wishing to present statements or obtain information should contact the person listed in the FOR FURTHER INFORMATION CONTACT section. Members of the public may present a written statement to the committee at any time.

Issued in Washington, DC, on November 3, 2004.
Natalie Olgetree,
FAA General Engineer, RTCA Advisory Committee.

[FR Doc. 04-25134 Filed 11-10-04; 8:45 am]

BILLING CODE 4910-13-M